DEPARTMENT OF THE INTERIOR

Bureau of Reclamation

[A10-1412-0001-009-01-0-4, 8453000; OMB Control Number 1006-0005]

Agency Information Collection Activities Under OMB Review; Renewal of a Currently Approved Information Collection

AGENCY: Bureau of Reclamation, Interior.

ACTION: Notice of renewal and request for comments.

SUMMARY: The Bureau of Reclamation has forwarded the following Information Collection Request to the Office of Management and Budget (OMB) for review and approval: Individual Landholder's and Farm Operator's Certification and Reporting Forms for Acreage Limitation, 43 CFR part 426 and 43 CFR part 428 (OMB Control Number 1006-0005).

DATES: OMB has up to 60 days to approve or disapprove this information collection request, but may respond after 30 days; therefore, public comments must be received on or before June 3, 2013.

ADDRESSES: Send written comments to the Desk Officer for the Department of the Interior at the Office of Management and Budget, Office of Information and Regulatory Affairs, via facsimile to (202) 395-5806, or email to oira_submission@omb.eop.gov. A copy of your comments should also be directed to the Bureau of Reclamation, Attention: 84-53000, P.O. Box 25007, Denver, CO 80225-0007. Please reference OMB Control Number 1006-0005 in your comments.

FOR FURTHER INFORMATION CONTACT: Stephanie McPhee, Bureau of Reclamation, at (303) 445-2897. You may also view the Information Collection Request at www.reginfo.gov.

SUPPLEMENTARY INFORMATION:

I. Abstract

This information collection is required under the Reclamation Reform Act of 1982 (RRA), Acreage Limitation Rules and Regulations, 43 CFR part 426, and Information Requirements for Certain Farm Operations In Excess of 960 Acres and the Eligibility of Certain Formerly Excess Land, 43 CFR part 428. This information collection requires certain landholders (direct or indirect landowners or lessees) and farm operators to complete forms demonstrating their compliance with the acreage limitation provisions of Federal reclamation law. The forms in this information collection are submitted to districts that use the information to establish each landholder's status with respect to landownership limitations, full-cost pricing thresholds, lease requirements, and other provisions of Federal reclamation law. In addition, forms are submitted by certain farm operators to provide information concerning the services they provide and the nature of their farm operating arrangements. All landholders whose entire westwide landholdings total 40 acres or less are exempt from the requirement to submit RRA forms. Landholders who are “qualified recipients” have RRA forms submittal thresholds of 80 acres or 240 acres depending on the district's RRA forms submittal threshold category where the land is held. Only farm operators who provide multiple services to more than 960 acres held in trusts or by legal entities are required to submit forms.

II. Changes to the RRA Forms and Their instructions

The changes made to the currently approved RRA forms and the corresponding instructions are of a formatting or editorial nature, and are designed to assist the respondents by increasing their understanding of the forms, clarifying the instructions for completing the forms, and clarifying the information that is required to be on the forms. The proposed revisions to the RRA forms will be effective in the 2014 water year.

III. Data

OMB Control Number: 1006-0005.

Title: Individual Landholder's and Farm Operator's Certification and Reporting Forms for Acreage Limitation, 43 CFR part 426 and 43 CFR part 428.

Form Number: Form 7-2180, Form 7-2180EZ, Form 7-2181, Form 7-2184, Form 7-2190, Form 7-2190EZ, Form 7-2191, Form 7-2194, Form 7-21TRUST, Form 7-21PE, Form 7-21PE-IND, Form 7-21FARMOP, Form 7-21VERIFY, Form 7-21FC, Form 7-21XS, Form 7-21XSINAQ, Form 7-21CONT-I, Form 7-21CONT-L, Form 7-21CONT-O, and Form 7-21INFO.

Frequency: Annually.

Respondents: Landholders and farm operators of certain lands in our projects, whose landholdings exceed specified RRA forms submittal thresholds.

Estimated Annual Total Number of Respondents: 14,002.

Estimated Number of Responses per Respondent: 1.02.

Estimated Total Number of Annual Responses: 14,282.

Estimated Total Annual Burden on Respondents: 10,472 hours.

Estimated Completion Time Per Respondent: See table below:

Form No. | Burden estimate per form (in minutes) | Number of respondents | Annual number of responses | Annual burden on respondents (in hours)
Form 7-2180 | 60 | 3,596 | 3,668 | 3,668
Form 7-2180EZ | 45 | 374 | 381 | 286
Form 7-2181 | 78 | 1,051 | 1,072 | 1,394
Form 7-2184 | 45 | 32 | 33 | 25
Form 7-2190 | 60 | 1,618 | 1,650 | 1,650
Form 7-2190EZ | 45 | 96 | 98 | 74
Form 7-2191 | 78 | 777 | 793 | 1,031
Form 7-2194 | 45 | 4 | 4 | 3
Form 7-21PE | 75 | 139 | 142 | 178
Form 7-21PE-IND | 12 | 4 | 4 | 1
Form 7-21TRUST | 60 | 700 | 714 | 714
Form 7-21VERIFY | 12 | 5,081 | 5,183 | 1,037
Form 7-21FC | 30 | 214 | 218 | 109
Form 7-21XS | 30 | 144 | 147 | 74
Form 7-21FARMOP | 78 | 172 | 175 | 228
Totals |  | 14,002 | 14,282 | 10,472

IV. Request for Comments

We invite your comments on:

(a) Whether the proposed collection of information is necessary for the proper performance of our functions, including whether the information will have practical use;

(b) the accuracy of our burden estimate for the proposed collection of information;

(c) ways to enhance the quality, usefulness, and clarity of the information to be collected; and

(d) ways to minimize the burden of the information collection on respondents, including the use of automated collection techniques or other forms of information technology.

An agency may not conduct or sponsor, and a person is not required to respond to, a collection of information unless it displays a currently valid OMB control number. Reclamation will display a valid OMB control number on the RRA forms.

A Federal Register notice with a 60-day comment period soliciting comments on this collection of information was published in the Federal Register (77 FR 57588, September 18, 2012). One substantive comment was received. This comment stated the wording of one sentence in the “General Information About the RRA Forms” (Form 7-21INFO) should be changed to indicate that Reclamation reviews certain trusts, not all trusts. The requirements associated with section 214 of the RRA and the Acreage Limitation Rules and Regulations necessitates Reclamation's review of all trusts in order to determine the applicable entitlements and water rate for each trust that receives Reclamation irrigation water on the land directly or indirectly owned or leased by the trust. Therefore, the specific verbiage in Form 7-21INFO will remain unchanged and reflect required review of all trusts.

OMB has up to 60 days to approve or disapprove this information collection, but may respond after 30 days; therefore, public comment should be submitted to OMB within 30 days in order to assure maximum consideration.

V. Public Disclosure

Before including your address, phone number, email address, or other personal identifying information in your comment, you should be aware that your entire comment—including your personal identifying information—may be made publicly available at any time. While you can ask us in your comment to withhold your personal identifying information from public review, we cannot guarantee that we will be able to do so.

Dated: April 26, 2013.
Roseann Gonzales,
Director, Policy and Administration, Denver Office.

[FR Doc. 2013-10359 Filed 5-1-13; 8:45 am]

BILLING CODE 4310-MN-P